DEPARTMENT OF THE INTERIOR

National Park Service

National Register of Historic Places; Notice of Draft Multiple Property Documentation Form: Historic Residential Suburbs in the United States, 1830-1960

The National Register is soliciting comments on a draft multiple property form, Historic Residential Suburbs in the United States, 1830-1960, which was developed in conjunction with the National Register bulletin, Historic Residential Suburbs: Guidelines for Evaluation and Documentation for the National Register of Historic Places (available on the Web at: http://www.cr.nps.gov/nr/publications/bulletins/suburbs). Researched and written by Dr. David L. Ames of the Center for Historic Architecture and Engineering at the University of Delaware and Linda McClelland of the National Register staff, this proposed Multiple Property Submission is intended to facilitate future nominations of historic subdivisions and neighborhoods to the National Register. Historic Residential Suburbs in the United States, 1830-1960 is available on the National Register Web site at: <www.nr.nps.gov/multiples/64500838.pdf>.

Comments on the proposed Historic Residential Suburbs in the United States, 1830-1960 multiple property form will be received for 45 days from the date of this notice. Please address comments to Carol D. Shull, Keeper of the National Register of Historic Places, National Register, History and Education, National Park Service, 1849 C Street, NW. (2280), Washington, DC 20240, Attention: Linda McClelland (phone: 202-354-2258; e-mail: linda_mcclelland@nps.gov).

Carol D. Shull,
Keeper of the National Register of Historic Places.

[FR Doc. 03-11859 Filed 5-12-03; 8:45 am]

BILLING CODE 4312-51-P